OFFICE OF THE FEDERAL REGISTER

5 CFR Chapter XL

Interstate Commerce Commission Regulations; Removal of Chapter

Editorial Note: Under section 101 of Public Law 104-88, the Interstate Commerce Commission was abolished on Dec. 29, 1995, effective January 1, 1996.

The Director of the Office of the Federal Register, pursuant to his authority to maintain an orderly system of codification under 44 U.S.C. 1510 and 1 CFR 8.2, hereby removes from the Code of Federal Regulations, Chapter XL of Title 5, consisting of Parts 5000 to 5099, containing supplemental standards of ethical conduct for the employees of the Interstate Commerce Commission.

Accordingly, Chapter XL of Title 5 of the Code of Federal Regulations is hereby removed as of December 26, 2024.

[FR Doc. 2024-31079 Filed 12-23-24; 8:45 am]

BILLING CODE 0099-10-P